FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Jarrett Logistics Systems, Inc., 1347 N. Main Street, Orrville, OH 44667. Officers: W. Michael Jarrett, President, (Qualifying Individual), Diane Jarrett, Secretary.

Login Logistics USA Corp., 2025 NW 102 Ave., Suite #111, Miami, FL 33172. Officers: Eduardo Garcia, Operational Manager (Qualifying Individual), Rodinilson Barbosa Da Silva, President.

Prestige Relocation, Inc., 8264 Playa Del Sur Blvd., Lake Worth, FL 33467. Officer: Velena Gass, President (Qualifying Individual).

Imodal Limited Liability Company dba Imodal, 170 Kinnelon Road, Suite 37, Kinnelon, NJ 07405. Officer: Joseph A. Dymkowski, Member/Manager (Qualifying Individual).

S.F. Systems (Group) Ltd., 9040 Telstar Ave., #136, El Monte, CA 91731. Officers: Mei-Ling Chan, Secretary (Qualifying Individual), Fan Gie Ho, CFO/CEO.

Greating Shipping Company, 204 La France Ave., #5, Alhambra, CA 91801. Officers: Jack Huaqing Chen, Secretary (Qualifying Individual), Wai Man Chu, President.

Non-Vessel Operating Common Carrier and Ocean Freight Forwarder Transportation Intermediary Applicants

Foremost Transportation Services, Inc., 1643 Allegheny Blvd., Reno, PA 16343. Officers: Roberta Lynn Nicols, Treasurer (Qualifying Individual), Greg Lander, Vice President.

The Perfect Body, Inc., dba Diamond Automotive, 6957 W. Grand Avenue, Chicago, IL 60707. Officers: Marian Suszczynski, President (Qualifying Individual).

Ocean Freight Forwarder—Ocean Transportation Intermediary Applicant

Specialized Overseas Shipping Corporation, 2401 NW 3rd Avenue, Miami, FL 33142. Officer: Vicente Pena Hamel, President (Qualifying Individual).

Dated: October 5, 2007.
Bryant L. VanBrakle,
Secretary.

[FR Doc. E7-20088 Filed 10-10-07; 8:45 am]

BILLING CODE 6730-01-P